Title 3—

The President

Memorandum of July 5, 2000

Delegation of Responsibilities Under Section 1232 of the

Foreign Relations Authorization Act, Fiscal Years 2000 and 2001 (Public Law 106-113)

Memorandum for the Secretary of State [and] the Secretary of Defense

By the authority vested in me by the Constitution and the laws of the United States, including section 301 of title 3, United States Code, I hereby delegate to the Secretary of Defense the duties and responsibilities vested in the President by section 1232 of the Foreign Relations Authorization Act for Fiscal Years 2000 and 2001 (the “Act”) (Public Law 106-113), to transfer from War Reserve Allies Stockpiles in Korea and Thailand to the Republic of Korea and the Kingdom of Thailand, respectively, in return for concessions to be negotiated by the Secretary of Defense, with the concurrence of the Secretary of State, any or all of the items described in paragraph (a)(2) of section 1232 of the Act, subject to the conditions, requirements, and limitations set forth in section 1232 of the Act.

Any reference in this memorandum to the provisions of any Act shall be deemed to be a reference to such Act or its provisions as may be amended from time to time.

The authority delegated to the Secretary of Defense may be redelegated in writing within the Department of Defense.

The Secretary of Defense is authorized and directed to publish this memorandum in the Federal Register.

wj

THE WHITE HOUSE,

Washington, July 5, 2000.

[FR Doc. 00-17834

Filed 7-12-00; 8:45 am]

Billing code 5000-04-M